DEPARTMENT OF ENERGY

Federal Energy Regulatory Commission

Combined Notice of Filings

Take notice that the Commission has received the following Natural Gas Pipeline Rate and Refund Report filings:

Filings Instituting Proceedings

Docket Numbers: PR15-4-000.

Applicants: Columbia Gas of Maryland.

Description: Tariff filing per 284.123/.224: Application for Approval of Revised SOC to be effective 11/1/2014; TOFC: 1310.

Filed Date: 10/29/14.

Accession Number: 20141029-5149.

Comments Due: 5 p.m. ET 11/19/14.

Docket Numbers: RP15-81-000.

Applicants: Fayetteville Express Pipeline LLC.

Description: § 4(d) rate filing per 154.204: Fuel Filing on 10-30-14 to be effective 12/1/2014.

Filed Date: 10/30/14.

Accession Number: 20141030-5049.

Comments Due: 5 p.m. ET 11/12/14.

Docket Numbers: RP15-82-000.

Applicants: ETC Tiger Pipeline, LLC.

Description: § 4(d) rate filing per 154.204: Fuel Filing on 10-30-14 to be effective 12/1/2014.

Filed Date: 10/30/14.

Accession Number: 20141030-5051.

Comments Due: 5 p.m. ET 11/12/14.

Docket Numbers: RP15-83-000.

Applicants: Alliance Pipeline L.P.

Description: § 4(d) rate filing per 154.204: November 1-30 2014 Auction to be effective 11/1/2014.

Filed Date: 10/30/14.

Accession Number: 20141030-5052.

Comments Due: 5 p.m. ET 11/12/14.

Docket Numbers: RP15-84-000.

Applicants: Equitrans, L.P.

Description: § 4(d) rate filing per 154.204: Negotiated Rate Service Agreement—Range Resources effective 11-01-2014 to be effective 11/1/2014.

Filed Date: 10/30/14.

Accession Number: 20141030-5063.

Comments Due: 5 p.m. ET 11/12/14.

Docket Numbers: RP15-85-000.

Applicants: Transcontinental Gas Pipe Line Company.

Description: § 4(d) rate filing per 154.204: Negotiated Rates—Cherokee AGL—Replacement Shippers—Nov 2014 to be effective 11/1/2014.

Filed Date: 10/30/14.

Accession Number: 20141030-5106.

Comments Due: 5 p.m. ET 11/12/14.

Docket Numbers: RP15-86-000.

Applicants: Midwestern Gas Transmission Company.

Description: 2013-2014 Cashout Report of Midwestern Gas Transmission Company.

Filed Date: 10/30/14.

Accession Number: 20141030-5138.

Comments Due: 5 p.m. ET 11/12/14.

Docket Numbers: RP15-87-000.

Applicants: Wyoming Interstate Company, L.L.C.

Description: § 4(d) rate filing per 154.403(d)(2): FL&U Effective December 1, 2014 to be effective 12/1/2014.

Filed Date: 10/30/14.

Accession Number: 20141030-5149.

Comments Due: 5 p.m. ET 11/12/14.

Docket Numbers: RP15-88-000.

Applicants: Transcontinental Gas Pipe Line Company.

Description: § 4(d) rate filing per 154.204: Northeast Connector Initial Rate Filing to be effective 12/1/2014.

Filed Date: 10/30/14.

Accession Number: 20141030-5162.

Comments Due: 5 p.m. ET 11/12/14.

Docket Numbers: RP15-89-000.

Applicants: Midwestern Gas Transmission Company.

Description: 2013-2014 Gas Sales and Purchases Report of Midwestern Gas Transmission Company.

Filed Date: 10/30/14.

Accession Number: 20141030-5166.

Comments Due: 5 p.m. ET 11/12/14.

Docket Numbers: RP15-90-000.

Applicants: Carolina Gas Transmission Corporation.

Description: § 4(d) rate filing per 154.204: Filing to Synchronize Prior Approved Tariff Filings to be effective 10/16/2014.

Filed Date: 10/30/14.

Accession Number: 20141030-5174.

Comments Due: 5 p.m. ET 11/12/14.

Docket Numbers: RP15-91-000.

Applicants: Iroquois Gas Transmission System, L.P.

Description: § 4(d) rate filing per 154.204: 10/30/14 Negotiated Rates—NJR Energy Services Company (RTS) 2890-14 to be effective 11/1/2014.

Filed Date: 10/30/14.

Accession Number: 20141030-5175.

Comments Due: 5 p.m. ET 11/12/14.

Docket Numbers: RP15-92-000.

Applicants: Kern River Gas Transmission Company.

Description: § 4(d) rate filing per 154.204: 2014 Miscellaneous to be effective 12/1/2014.

Filed Date: 10/31/14.

Accession Number: 20141031-5000.

Comments Due: 5 p.m. ET 11/12/14.

Docket Numbers: RP15-93-000.

Applicants: ANR Pipeline Company.

Description: § 4(d) rate filing per 154.601: Wisconsin Gas/Nexen Agmts to be effective 11/1/2014.

Filed Date: 10/31/14.

Accession Number: 20141031-5010.

Comments Due: 5 p.m. ET 11/12/14.

Docket Numbers: RP15-94-000.

Applicants: Viking Gas Transmission Company.

Description: 2013-2014 Gas Sales and Purchases Report of Viking Gas Transmission Company.

Filed Date: 10/30/14.

Accession Number: 20141030-5236.

Comments Due: 5 p.m. ET 11/12/14.

Docket Numbers: RP15-95-000.

Applicants: Transcontinental Gas Pipe Line Company.

Description: § 4(d) rate filing per 154.403: GSS LSS Tracker Filing—10-31-14 to be effective 11/1/2014.

Filed Date: 10/31/14.

Accession Number: 20141031-5024.

Comments Due: 5 p.m. ET 11/12/14.

Docket Numbers: RP15-96-000.

Applicants: Gulf South Pipeline Company, LP.

Description: § 4(d) rate filing per 154.204: Cap Rel Neg Rate Agmts (QEP 37657 to Trans LA 43283, 43284) to be effective 11/1/2014.

Filed Date: 10/31/14.

Accession Number: 20141031-5027.

Comments Due: 5 p.m. ET 11/12/14.

Docket Numbers: RP15-97-000.

Applicants: Gulf South Pipeline Company, LP.

Description: § 4(d) rate filing per 154.204: Cap Rel Neg Rate Agmt (EOG 34687 to Trans LA 43322) to be effective 11/1/2014.

Filed Date: 10/31/14.

Accession Number: 20141031-5028.

Comments Due: 5 p.m. ET 11/12/14.

Docket Numbers: RP15-98-000.

Applicants: Gulf South Pipeline Company, LP.

Description: § 4(d) rate filing per 154.204: Cap Rel Neg Rate Agmt (JW Operating 34690 to QWest 43324) to be effective 11/1/2014.

Filed Date: 10/31/14.

Accession Number: 20141031-5030.

Comments Due: 5 p.m. ET 11/12/14.

Docket Numbers: RP15-99-000.

Applicants: Gulf South Pipeline Company, LP.

Description: § 4(d) rate filing per 154.204: Cap Rel Neg Rate Agmts (PH 41448, 41455 to Texla and Sequent, various) to be effective 11/1/2014.

Filed Date: 10/31/14.

Accession Number: 20141031-5031.

Comments Due: 5 p.m. ET 11/12/14.

Docket Numbers: RP15-100-000.

Applicants: Texas Gas Transmission, LLC.

Description: § 4(d) rate filing per 154.204: Update to NC Agmts (Clarksdale 20393 amendment;remove KU 31869) to be effective 11/1/2014.

Filed Date: 10/31/14.

Accession Number: 20141031-5032.

Comments Due: 5 p.m. ET 11/12/14.

Docket Numbers: RP15-101-000.

Applicants: Florida Gas Transmission Company, LLC.

Description: § 4(d) rate filing per 154.312: Rate Case filed on 10-31-14 to be effective 12/1/2014.

Filed Date: 10/31/14.

Accession Number: 20141031-5034.

Comments Due: 5 p.m. ET 11/12/14.

Docket Numbers: RP15-102-000.

Applicants: Algonquin Gas Transmission, LLC.

Description: § 4(d) rate filing per 154.204: ConEdison November 2014 Ramapo Releases to be effective 11/1/2014.

Filed Date: 10/31/14.

Accession Number: 20141031-5038.

Comments Due: 5 p.m. ET 11/12/14.

Docket Numbers: RP15-103-000.

Applicants: Gulf South Pipeline Company, LP.

Description: § 4(d) rate filing per 154.204: Amendments to Neg Rate Agmts (Re: Sch of Combo Facilities) to be effective 11/1/2014.

Filed Date: 10/31/14.

Accession Number: 20141031-5039.

Comments Due: 5 p.m. ET 11/12/14.

Docket Numbers: RP15-104-000.

Applicants: Texas Eastern Transmission, LP.

Description: § 4(d) rate filing per 154.204: Chesapeake 11-01-2014 Permanent Releases to be effective 11/1/2014.

Filed Date: 10/31/14.

Accession Number: 20141031-5043.

Comments Due: 5 p.m. ET 11/12/14.

Docket Numbers: RP15-105-000.

Applicants: Algonquin Gas Transmission, LLC.

Description: § 4(d) rate filing per 154.204: KeySpan November 2014 Ramapo Releases to be effective 11/1/2014.

Filed Date: 10/31/14.

Accession Number: 20141031-5054.

Comments Due: 5 p.m. ET 11/12/14.

Docket Numbers: RP15-106-000.

Applicants: Trailblazer Pipeline Company LLC.

Description: § 4(d) rate filing per 154.204: Neg Rate NC 2014-10-29 Tenaska Marketing and Concord NCs to be effective 11/1/2014.

Filed Date: 10/31/14.

Accession Number: 20141031-5064.

Comments Due: 5 p.m. ET 11/12/14.

Docket Numbers: RP15-107-000

Applicants: Southern LNG Company, L.L.C.

Description: § 4(d) rate filing per 154.204: SLNG Electric Power Cost Adjustment—2014 to be effective 12/1/2014.

Filed Date: 10/31/14.

Accession Number: 20141031-5065.

Comments Due: 5 p.m. ET 11/12/14.

Docket Numbers: RP15-108-000.

Applicants: Columbia Gas Transmission, LLC.

Description: § 4(d) rate filing per 154.204: Penalty Crediting Mechanism Revisions to be effective 12/1/2014.

Filed Date: 10/31/14.

Accession Number: 20141031-5068.

Comments Due: 5 p.m. ET 11/12/14.

Docket Numbers: RP15-109-000.

Applicants: Columbia Gulf Transmission, LLC.

Description: § 4(d) rate filing per 154.204: Penalty Crediting Mechanism Revisions to be effective 12/1/2014.

Filed Date: 10/31/14.

Accession Number: 20141031-5069.

Comments Due: 5 p.m. ET 11/12/14.

Docket Numbers: RP15-110-000

Applicants: Columbia Gas Transmission, LLC.

Description: § 4(d) rate filing per 154.204: OTRA Tariff Update to be effective 12/1/2014.

Filed Date: 10/31/14.

Accession Number: 20141031-5070.

Comments Due: 5 p.m. ET 11/12/14.

Docket Numbers: RP15-111-000.

Applicants: Algonquin Gas Transmission, LLC.

Description: § 4(d) rate filing per 154.204: Brooklyn Union November 2014 Ramapo Releases to be effective 11/1/2014.

Filed Date: 10/31/14.

Accession Number: 20141031-5078.

Comments Due: 5 p.m. ET 11/12/14.

Docket Numbers: RP15-112-000.

Applicants: Columbia Gas Transmission, LLC.

Description: § 4(d) rate filing per 154.403: OTRA—Winter 2014 to be effective 12/1/2014.

Filed Date: 10/31/14.

Accession Number: 20141031-5082.

Comments Due: 5 p.m. ET 11/12/14.

Docket Numbers: RP15-113-000.

Applicants: Portland Natural Gas Transmission System.

Description: § 4(d) rate filing per 154.204: Barclays/DTE Neg Rate Agmts to be effective 11/1/2014.

Filed Date: 10/31/14.

Accession Number: 20141031-5086.

Comments Due: 5 p.m. ET 11/12/14.

Docket Numbers: RP15-114-000.

Applicants: Iroquois Gas Transmission System, L.P.

Description: § 4(d) rate filing per 154.204: 10/31/14 Negotiated Rates—BP Energy Company (HUB) 1410-89 to be effective 11/1/2014.

Filed Date: 10/31/14.

Accession Number: 20141031-5087.

Comments Due: 5 p.m. ET 11/12/14.

Docket Numbers: RP15-115-000.

Applicants: Gulf South Pipeline Company, LP.

Description: § 4(d) rate filing per 154.204: Cap Rel Neg Rate Agmts (PH 41448, 41455 to Tenaska 43352, 43353) to be effective 11/1/2014.

Filed Date: 10/31/14.

Accession Number: 20141031-5090.

Comments Due: 5 p.m. ET 11/12/14.

Docket Numbers: RP15-116-000.

Applicants: Iroquois Gas Transmission System, L.P.

Description: § 4(d) rate filing per 154.204: 10/31/14 Negotiated Rates—Freepoint Commodities LLC (RTS) 7250-13 to be effective 11/1/2014.

Filed Date: 10/31/14.

Accession Number: 20141031-5093.

Comments Due: 5 p.m. ET 11/12/14.

Docket Numbers: RP15-117-000.

Applicants: Iroquois Gas Transmission System, L.P.

Description: § 4(d) rate filing per 154.204: 10/31/14 Negotiated Rates—ConEdison Energy Inc. (HUB) 2275-89 to be effective 11/1/2014.

Filed Date: 10/31/14.

Accession Number: 20141031-5096.

Comments Due: 5 p.m. ET 11/12/14.

Docket Numbers: RP15-118-000.

Applicants: Midcontinent Express Pipeline LLC.

Description: § 4(d) rate filing per 154.403(d)(2): Fuel Tracker to be effective 12/1/2014.

Filed Date: 10/31/14.

Accession Number: 20141031-5098.

Comments Due: 5 p.m. ET 11/12/14.

Docket Numbers: RP15-119-000.

Applicants: Natural Gas Pipeline Company of America.

Description: § 4(d) rate filing per 154.204: Negotiated Rate—Tenaska Marketing Ventures to be effective 11/1/2014.

Filed Date: 10/31/14.

Accession Number: 20141031-5104.

Comments Due: 5 p.m. ET 11/12/14.

Docket Numbers: RP15-120-000.

Applicants: Natural Gas Pipeline Company of America.

Description: § 4(d) rate filing per 154.204: Negotiated Rate—Occidential Energy to be effective 11/1/2014.

Filed Date: 10/31/14.

Accession Number: 20141031-5110.

Comments Due: 5 p.m. ET 11/12/14.

Docket Numbers: RP15-121-000.

Applicants: El Paso Natural Gas Company, L.L.C.

Description: § 4(d) rate filing per 154.601: Non-Conforming Transportation Service Agreements Update (MGS-CFE) to be effective 11/1/2014.

Filed Date: 10/31/14.

Accession Number: 20141031-5121.

Comments Due: 5 p.m. ET 11/12/14.

Docket Numbers: RP15-122-000.

Applicants: Texas Eastern Transmission, LP.

Description: § 4(d) rate filing per 154.403(d)(2): ASA TETLP Dec 2014 Filing to be effective 12/1/2014.

Filed Date: 10/31/14.

Accession Number: 20141031-5168.

Comments Due: 5 p.m. ET 11/12/14.

Docket Numbers: RP15-123-000.

Applicants: El Paso Natural Gas Company, L.L.C.

Description: § 4(d) rate filing per 154.601: Non-Conforming Agreements Filing (McLean, Denver City,Whiteface) to be effective 12/1/2014.

Filed Date: 10/31/14.

Accession Number: 20141031-5181.

Comments Due: 5 p.m. ET 11/12/14.

Docket Numbers: RP15-124-000.

Applicants: Texas Eastern Transmission, LP.

Description: § 4(d) rate filing per 154.204: ConEdison November 2014 NJ-NY Releases to be effective 11/1/2014.

Filed Date: 10/31/14.

Accession Number: 20141031-5183.

Comments Due: 5 p.m. ET 11/12/14.

Docket Numbers: RP15-125-000.

Applicants: Texas Eastern Transmission, LP.

Description: § 4(d) rate filing per 154.204: Releases to Twin Eagle for 11-1-2014 to be effective 11/1/2014.

Filed Date: 10/31/14.

Accession Number: 20141031-5184.

Comments Due: 5 p.m. ET 11/12/14.

Docket Numbers: RP15-126-000.

Applicants: Maritimes & Northeast Pipeline, L.L.C.

Description: § 4(d) rate filing per 154.204: Nov 2014 Mosbacher Release to Shell to be effective 11/1/2014.

Filed Date: 10/31/14.

Accession Number: 20141031-5188.

Comments Due: 5 p.m. ET 11/12/14.

Docket Numbers: RP15-127-000.

Applicants: Viking Gas Transmission Company.

Description: § 4(d) rate filing per 154.204: FT-A Exhibit A to be effective 11/1/2014.

Filed Date: 10/31/14.

Accession Number: 20141031-5208.

Comments Due: 5 p.m. ET 11/12/14.

Docket Numbers: RP15-128-000.

Applicants: Algonquin Gas Transmission, LLC.

Description: § 4(d) rate filing per 154.204: KeySpan November 2014 Ramapo Releases—filing 2 to be effective 11/1/2014.

Filed Date: 10/31/14.

Accession Number: 20141031-5219.

Comments Due: 5 p.m. ET 11/12/14.

Docket Numbers: RP15-129-000.

Applicants: Northern Natural Gas Company.

Description: § 4(d) rate filing per 154.204: 20141031 Negotiated Rate to be effective 11/1/2014.

Filed Date: 10/31/14.

Accession Number: 20141031-5223.

Comments Due: 5 p.m. ET 11/12/14.

Docket Numbers: RP15-130-000.

Applicants: Tennessee Gas Pipeline Company, L.L.C.

Description: § 4(d) rate filing per 154.204: Pro Forma—LMS-MA and LMS-PA Cash Out Indices to be effective 12/31/9998.

Filed Date: 10/31/14.

Accession Number: 20141031-5224.

Comments Due: 5 p.m. ET 11/12/14.

Docket Numbers: RP15-131-000.

Applicants: Algonquin Gas Transmission, LLC.

Description: § 4(d) rate filing per 154.204: Brooklyn Union November 2014 Ramapo Releases—filing 2 to be effective 11/1/2014.

Filed Date: 10/31/14.

Accession Number: 20141031-5227.

Comments Due: 5 p.m. ET 11/12/14.

Docket Numbers: RP15-133-000.

Applicants: Wyoming Interstate Company, L.L.C.

Description: § 4(d) rate filing per 154.204: Non-Conforming Agreement (Chesapeake) to be effective 12/1/2014.

Filed Date: 10/31/14.

Accession Number: 20141031-5265.

Comments Due: 5 p.m. ET 11/12/14.

Docket Numbers: RP15-134-000.

Applicants: Cheyenne Plains Gas Pipeline Company, L.

Description: § 4(d) rate filing per 154.204: Interruptible Parking and Lending Service to be effective 12/1/2014.

Filed Date: 10/31/14.

Accession Number: 20141031-5275.

Comments Due: 5 p.m. ET 11/12/14.

Docket Numbers: RP15-135-000.

Applicants: Rockies Express Pipeline LLC.

Description: § 4(d) rate filing per 154.204: Neg Rate 2014-10-31 ConocoPhillips, Encana to be effective 11/1/2014.

Filed Date: 10/31/14.

Accession Number: 20141031-5280.

Comments Due: 5 p.m. ET 11/12/14.

Docket Numbers: RP15-136-000.

Applicants: Algonquin Gas Transmission, LLC.

Description: § 4(d) rate filing per 154.403(d)(2): AGT FRQ 2014 Filing to be effective 12/1/2014.

Filed Date: 10/31/14.

Accession Number: 20141031-5281.

Comments Due: 5 p.m. ET 11/12/14.

Docket Numbers: RP15-137-000.

Applicants: Northern Natural Gas Company.

Description: Northern Natural Gas Company submits Operational Zone Boundary Modification and Waiver Request.

Filed Date: 10/31/14.

Accession Number: 20141031-5346.

Comments Due: 5 p.m. ET 11/12/14.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

Filings in Existing Proceedings

Docket Numbers: RP14-1195-002.

Applicants: Sierrita Gas Pipeline LLC.

Description: Compliance filing per 154.203: Non-Conforming Agreement Compliance to be effective 10/31/2014.

Filed Date: 10/31/14.

Accession Number: 20141031-5231.

Comments Due: 5 p.m. ET 11/12/14.

Docket Numbers: RP14-748-001.

Applicants: Big Sandy Pipeline, LLC.

Description: Compliance filing per 154.203: RP14-748-000 Compliance Filing to be effective 10/16/2014.

Filed Date: 10/31/14.

Accession Number: 20141031-5194.

Comments Due: 5 p.m. ET 11/12/14.

Docket Numbers: RP14-852-001.

Applicants: ANR Storage Company.

Description: Compliance filing per 154.203: Compliance to RP14-852-000 to be effective 10/16/2014.

Filed Date: 10/31/14.

Accession Number: 20141031-5127.

Comments Due: 5 p.m. ET 11/12/14.

Docket Numbers: RP14-853-001.

Applicants: Bison Pipeline LLC.

Description: Compliance filing per 154.203: Compliance to RP14-853-000 to be effective 10/16/2014.

Filed Date: 10/31/14.

Accession Number: 20141031-5138.

Comments Due: 5 p.m. ET 11/12/14.

Docket Numbers: RP14-854-001.

Applicants: Great Lakes Gas Transmission Limited Par.

Description: Compliance filing per 154.203: Compliance to RP14-854-000 to be effective 10/16/2014.

Filed Date: 10/31/14.

Accession Number: 20141031-5174.

Comments Due: 5 p.m. ET 11/12/14.

Docket Numbers: RP14-855-001.

Applicants: Blue Lake Gas Storage Company.

Description: Compliance filing per 154.203: Compliance to RP14-855-000 to be effective 10/16/2014.

Filed Date: 10/31/14.

Accession Number: 20141031-5145.

Comments Due: 5 p.m. ET 11/12/14.

Docket Numbers: RP14-856-001.

Applicants: Gas Transmission Northwest LLC.

Description: Compliance filing per 154.203: Compliance to RP14-856-000 to be effective 10/16/2014.

Filed Date: 10/31/14.

Accession Number: 20141031-5178.

Comments Due: 5 p.m. ET 11/12/14.

Docket Numbers: RP14-857-001.

Applicants: North Baja Pipeline, LLC.

Description: Compliance filing per 154.203: Compliance to RP14-857-000 to be effective 10/16/2014.

Filed Date: 10/31/14.

Accession Number: 20141031-5186.

Comments Due: 5 p.m. ET 11/12/14.

Docket Numbers: RP14-858-001.

Applicants: Northern Border Pipeline Company.

Description: Compliance filing per 154.203: Compliance to RP14-858-000 to be effective 10/16/2014.

Filed Date: 10/31/14.

Accession Number: 20141031-5187.

Comments Due: 5 p.m. ET 11/12/14.

Docket Numbers: RP14-861-001.

Applicants: Tuscarora Gas Transmission Company.

Description: Compliance filing per 154.203: Compliance to RP14-861-000 to be effective 10/16/2014.

Filed Date: 10/31/14.

Accession Number: 20141031-5193.

Comments Due: 5 p.m. ET 11/12/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2014.
Nathaniel J. Davis, Sr.,
Deputy Secretary.

[FR Doc. 2014-26570 Filed 11-7-14; 8:45 am]

BILLING CODE 6717-01-P